DEPARTMENT OF EDUCATION

[CFDA No.: 84.326X]

Office of Special Education and Rehabilitative Services; Special Education—Technical Assistance and Dissemination To Improve Services and Results for Children With Disabilities Program

AGENCY: Department of Education.

ACTION: Notice inviting applications for new awards for fiscal year (FY) 2002.

SUMMARY: The Assistant Secretary for Special Education and Rehabilitative Services invites applications for FY 2002 under the Special Education—Technical Assistance and Dissemination to Improve Services and Results for Children with Disabilities Program. This program is authorized by the Individuals with Disabilities Education Act (IDEA), as amended. This notice provides closing dates, a priority, and other information regarding the transmittal of applications.

Please note that important fiscal information is listed in a table at the end of this notice.

Waiver of Rulemaking

It is generally our practice to offer interested parties the opportunity to comment on proposed priorities.

However, section 661(e)(2) of IDEA makes rulemaking procedures in the Administrative Procedure Act (5 U.S.C. 553) inapplicable to the priority in this notice.

Purpose of Program: This program provides technical assistance and information that (1) support States and local entities in building capacity to improve early intervention, educational, and transitional services and results for children with disabilities and their families; and (2) address goals and priorities for changing State systems that provide early intervention, educational, and transitional services for children with disabilities and their families.

Eligible Applicants: State educational agencies (SEAs) of the 50 States, the District of Columbia, the Commonwealth of Puerto Rico, outlying areas and Freely Associated States that have not been awarded grants under this competition (84.326X) in previous years. Eligible applicants are listed in the chart at the end of this notice. Freely Associated States are eligible to apply for funding to address system needs of Part B of IDEA only because they do not receive funding under Part C.

An entity eligible to apply for funding under section 661(b)(1) of IDEA may apply on behalf of an SEA or a Freely Associated State, but the entity must include a signed letter of endorsement from the director of the SEA or the appropriate official of the Freely Associated State.

The Assistant Secretary does not fund an application submitted by two agencies or entities on behalf of a single State, but encourages a joint application from an SEA and a State lead agency for Part C early intervention services in a State in which the SEA is not the State lead agency. An SEA may endorse the State lead agency as the State's applicant under the conditions in the MAXIMUM AWARD section of this notice.

Applications Available: June 26, 2002.

Deadline for Transmittal of Applications: July 29, 2002.

Intergovernmental Review: This program is subject to the requirements of Executive Order 12372 and the regulations in 34 CFR part 79. One of the objectives of the Executive order is to foster an intergovernmental partnership and a strengthened federalism. The Executive Order relies on processes developed by State and local governments for coordination and review of proposed Federal financial assistance.

This document provides early notification of our specific plans and actions for this programs.

Deadline for Intergovernmental Review: September 26, 2002.

Estimated Available Funds: $8 million.

Estimated Range of Awards: The chart at the end of this Notice lists the range for State basic grant awards for FY 2002.

Estimated Average Size of Awards: $375,000.

Maximum Awards: The chart at the end of this notice lists the amount of State basic grant awards for FY 2002. An applicant should note that it may apply for awards of differing amounts based on whether its application addresses (1) only the Part B program; or (2) both the Parts B and C programs.

The amounts for a State basic grant are based on the Office of Special Education Programs (OSEP) assessment that the minimal amounts necessary to address only Part B program needs and both Parts B and C program needs are $120,000 and $200,000 respectively. Calculation of amounts above the minimum levels was based on the 85 percent population rate and 15 percent poverty rate used in the calculation of Part B formula grant awards.

Outlying areas are eligible to receive $80,000 for addressing only Part B and $100,000 for addressing both Parts B and C. Because Freely Associated States participate only in the Part B program, a level of $80,000 has been established for addressing Part B only.

A State may not propose a budget in its application for the basic grant award that exceeds the amounts in this notice.

We will reject any application that purposes a budget exceeding the maximum amount listed on the chart for a single budget period of twelve months. The Assistant Secretary may reduce the grant award levels based on available funds.

Application for Enhancement Funds: OSEP may have additional funds available to support enhancements to the activities described in the projects approved for funding under this competition. A proposed project wishing to apply for enhancement funds may add up to five additional pages to Part III to describe activities that augment or complement those presented in the narrative section of its proposal for a basic grant. The applicant must place the additional pages in a separate “Enhancement” section located in Part III.

Enhancement activities may be an expansion of activities already described in the narrative or they may be new activities that would improve the quality of the previously proposed tasks; for example, additional staff training, the acquisition of expert technical assistance, or the improved involvement of parties affected by the project. In determining whether to fund enhancement activities, we base our decision on whether these activities represent an exceptional approach for meeting the priority.

If the proposed project applies for enhancement funds, we shall evaluate that application material separately from the application for the basic grant. We may award up to an additional 50 points to a proposal for enhancement funds. In order for us to fund the enhancement activities, application must receive: (1) A recommendation to fund the basic grant; (2) a recommendation to fund the enhancement activities; and (3) a score combining the basic grant points with the enhancement activity points that places the application in the funding range. We shall fund all approved basic grant applications before we fund any enhancement activities.

An applicant must prepare and include in Part II of the application a separate budget for the enhancement funds. This budget may not exceed 30 percent of the award amount listed for the basic grant (i.e., either 30 percent of the award for Part B only or 30 percent of the award for Parts B and C, depending on whether the application addresses only Part B or Parts B and C).

Other Application Requirements

To be considered for a combined Parts B and C award, a proposed project must describe in the application narrative (Part III): (1) how the SEA and State lead agency participated in developing the application; and (2) how the project will use the funding to address the needs of both the Parts B and C programs.

If an SEA endorses the State lead agency as the State's applicant, the proposed project must describe: (1) how the State lead agency and SEA collaborated to develop the application; and (2) how the State lead agency will use the award to address the needs of both the Parts B and C programs (e.g., developing or enhancing a data system that tracks the transition of toddlers from Part C to Part B services).

Estimated Number of Awards: 18.

Note: The Department is not bound by any estimates in this notice.

Project Period: September 30, 2002—September 30, 2003

Page Limits: Part III of an application submitted under this notice, the application narrative, is where an applicant addresses the selection criteria that are used by reviewers in evaluating the application.

If your proposed project addresses only Part B, you must limit to the equivalent of no more than 20 pages for a basic grant and 25 pages for a basic grant with enhancements. If your proposed project addresses both Part B and Part C you must limit Part III to the equivalent of no more than 30 pages for a basic grant and 35 pages for a basic grant with enhancements. To determine the number of pages or the equivalent, you must use the following standards will be used:

• A “page” is 8.5″ x 11″ (on one side only) with one-inch margins (top, bottom, and sides).

• Double-space (no more than three lines per vertical inch) all text in the application narrative, including titles, headings, footnotes, quotations, and captions, as well as all text in charts, tables, figures, and graphs.

• Use a font that is either 12-point or larger and no smaller than 10 pitch (characters per inch).

The page limit does not apply to Part I, the cover sheet; Part II, the budget section, including the narrative budget justification; Part IV, the assurances and certifications; or the one-page abstract, the resumes, the bibliography or references, or the letters of support. However, you must include all of the application narrative in Part III.

We will reject any application if—

• You apply these standards and exceed the page limit; or

• You apply other standards and exceed the equivalent of the page limit.

Additional Requirements

(a) The projects funded under this competition must make positive efforts to employ and advance in employment in project activities qualified individuals with disabilities (see section 606 of IDEA).

(b) Applicants and grant recipients under this competition must involve qualified individuals with disabilities or parents of individuals with disabilities in planning, implementing, and evaluating the projects (see section 661(f)(1)(A) of IDEA).

(c) The projects funded under this competition must budget for a two-day Project Directors' meeting in Washington, DC.

Instructions for Transmittal of Applications

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2002, the U.S. Department of Education is continuing to expand its pilot project of electronic submission of applications to include additional formula grant programs and additional discretionary grant competitions. The Special Education—Technical Assistance and Dissemination to Improve Services and Results for Children with Disabilities Program is one of the programs included in the pilot project. If you are an applicant under this program, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit all documents electronically, including the Application for Federal Assistance (ED 424), Budget Information—Non-Construction Programs (ED 524), and all necessary assurances and certifications.

• Within three working days of submitting your electronic application, fax a signed copy of the Application for Federal Assistance (ED 424) to the Application Control Center after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center at (202) 260-1349.

• We may request that you give us original signatures on all other forms at a later date.

You may access the electronic grant application for the program at: http://e-grants.ed.gov

We have included additional information about the e-APPLICATION pilot project (see Parity Guidelines between Paper and Electronic Applications) in the application package.

Applicable Regulations: (a) The Education Department General Administrative Regulations (EDGAR) in 34 CFR parts 74, 75, 77, 79, 80, 81, 82, 85, 97, 98, and 99; (b) The selection criteria are drawn from the general selection criteria in 34 CFR 75.210. The specific selection criteria for this priority are included in the application package for this competition.

Priority

Under section 685 of IDEA and 34 CFR 75.105(c)(3) we consider only applications that meet the following absolute priority:

Absolute Priority—IDEA General Supervision Enhancement Grant (84.326X)

Background

Over the past six years, the Office of Special Education Programs (OSEP) has worked with interested parties to modify its monitoring system in a way that will improve results for infants, toddlers, and children with disabilities, and their families. The interested parties OSEP has worked with have included SEAs, local educational agencies, parents and advocates. To ensure States' compliance with IDEA, OSEP has implemented a Continuous Improvement Monitoring Process (CIMP). An in-depth explanation of CIMP can be found at: http://dssc.org/frc/monitor.htm. (Click on manual100.doc to view in MS WORD or on manual100.pdf to view as a pdf file.)

Since the implementation of CIMP, SEAs and State lead agencies have endorsed the concept. All of the States have been involved in some phase of CIMP. Many States have begun the difficult processes of—

(1) Developing CIMP systems at the State level;

(2) Supporting the development of CIMP systems at the LEA level;

(3) Developing new data systems to support State and local CIMP systems; and

(4) Developing or enhancing State systems to identify and disseminate research-based promising practices in education and early intervention.

Providing the States with some initial funds to support their participation in CIMP, as well as to support unique State solutions and strategies developed in response to State-specific challenges identified through participation in CIMP, will reinforce OSEP's and the States' commitment to CIMP.

Absolute Priority

To be funded under this priority, a project must address one or more of the following four focus areas.

Focus 1: Developing or Enhancing a Process To Conduct a Self-Assessment

Background

SEAs and State lead agencies often require technical assistance to participate in the self-assessment phase of CIMP. This focus supports the development or enhancement of a process for statewide self-assessment of eligible applicants.

Focus

A project must develop or enhance a self-assessment process that is aligned with the self-assessment requirements of CIMP. The project is encouraged to address such tasks as:

(a) Identifying and implementing fiscally efficient processes to operate the CIMP Steering Committee;

(b) Identifying and obtaining data needed to evaluate the provision of early intervention or special education and related services or both;

(c) Identifying and using methods to determine data validity and reliability;

(d) Identifying and using valid and reliable techniques to collect data from parents, LEAs, advocates, service providers, and other parties interested in early intervention and special education and related services;

(e) Identifying and using valid and reliable techniques to analyze data; and

(f) Identifying and using decision making processes, based on data analysis, to determine whether IDEA regulatory requirements are: (1) In compliance; (2) in need of improvement; (3) out of compliance; or (4) exemplary.

Focus 2: Developing or Enhancing a Data System To Support the Needs of a CIMP at the State or Local Level

Background

The collection and use of valid and reliable data are cornerstones of CIMP. An analysis of State self-assessments has shown that many States, as well as their LEAs and local Part C agencies, lack the capacity to collect sufficient data to determine the impact of special education and early intervention services.

Focus

This focus supports the development or enhancement of a data system that is aligned with the data collection needs of CIMP and that will provide information about one or more of the following:

(a) Appropriate early intervention services or special education and related services or both.

(b) The effectiveness of the monitoring system of the SEA or State lead agency or both.

(c) The effectiveness of interagency coordination.

(d) The effectiveness of the State's dispute resolution system.

(e) The effectiveness of the State's system to identify children's eligibility for Part B or Part C services or both.

(f) Personnel shortages, including information related to the retention of qualified teachers and service providers.

(g) The system for exercising the general supervisory authority of the SEA or State lead agency or both.

(h) Efforts to address family needs and enhance families' capacities to meet the developmental needs of their children.

(i) Early intervention services in the natural environment or special education and related services in the least restrictive environment or both.

(j) The transition from Part C to Part B services.

(k) The involvement of parents.

(l) Transition of youth with disabilities from school to work or postsecondary education.

Focus 3: Developing or Enhancing a Process To Conduct Activities To Plan Improvement Based on CIMP

Background

The process of developing improvement plans is a critical component of CIMP. If done properly, improvement planning will result in improved special education and related services and early intervention or both. OSEP's analysis of State improvement plans in response to OSEP monitoring reports has shown that many States lack a cohesive data-based approach to developing their improvement plans. Many States have had trouble identifying and addressing the systemic barriers or factors that contributed to the practice that the State or OSEP has determined needs improvement.

Focus

This focus supports the development or enhancement of a process for planning improvement. The process must be aligned with the improvement planning phase of CIMP and should result in solutions that, for example—

(a) Identify systemic barriers to improved early intervention services or special education and related services or both;

(b) Address the systemic barriers to improved early intervention services or special education and related services or both;

(c) Include an evaluation component that demonstrates the positive impact of early intervention services or special education and related services or both;

(d) Include an evaluation component that demonstrates how changes in staff practice improve the provision of special education and related services or early intervention services or both;

(e) Are aligned or coordinated with the State's initiatives for general education reform; and

(f) Are consistent with and responsive to the findings of OSEP monitoring reports.

Focus 4: Developing or Enhancing State Systems To Identify, Disseminate, and Implement Promising Educational or Early Intervention Practices Based on Research

Background

OSEP has found that, to be fully effective, many improvement plans require a State technical assistance and dissemination structure to identify, disseminate, and implement promising educational or early intervention practices based on research. In many States this structure is either nonexistent or lacks sufficient resources to be effective.

Focus

This focus supports the development or enhancement of a process for planning improvement. The process must be aligned with the improvement planning phase of CIMP and should result in solutions that, for example—

(a) Providing information about intervention and instructional practices based on research;

(b) Supporting the use of research-based approaches in instruction and the delivery of service in local schools and agencies;

(c) Serving as a conduit for the dissemination of research-based information among SEAs, State lead agencies, LEAs and Part C agencies, and national technical assistance centers; and

(d) Improving the efficiency of disseminating information by existing State technical assistance centers.

For Applications Contact: Education Publications Center (ED Pubs), PO Box 1398, Jessup, Maryland 20794-1398. Telephone (toll free): 1-877-4ED-Pubs (1-877-433-7827). FAX: 301-470-1244. If you use a telecommunications device for the deaf (TDD) you may call (toll free): 1-877-576-7734.

You may also contact ED Pubs at its Web site: http://www.ed.gov/pubs/edpubs.html.

You may contact ED Pubs at its e-mail address: edpubs@inet.ed.gov

If you request an application from ED Pubs, be sure to identify this competition as follows: CFDA 84.326X.

FOR FURTHER INFORMATION CONTACT: Grants and Contracts Services Team, U.S. Department of Education, 400 Maryland Avenue, SW., room 3317, Switzer Building, Washington, DC 20202-2550. Telephone: (202) 205-8207.

If you use a TDD you may call the Federal Information Relay Service (FIRS) at 1-800-877-8339.

Individuals with disabilities may obtain this document in an alternative format (e.g., Braille, large print, audiotape, or computer diskette) on request to the contact listed under FOR FURTHER INFORMATION CONTACT.

Individuals with disabilities may obtain a copy of the application package in an alternative format by contacting that contact. However, the Department is not able to reproduce in an alternative format the standard forms included in the application package.

Individuals with Disabilities Education Act
[Application Notice for Fiscal Year 2002]
CFDA No., name of program and eligible applicants | Maximum award for basic grants (per year): IDEA Part B Only | Maximum award for basic grants (per year): IDEA Parts B &C
84.326X IDEA General Supervision Enhancement Grant:
Arizona | $258,821 | $361,440
California | 926,237 | 1,152,935
Delaware | 138,704 | 221,862
Florida | 469,206 | 602,580
Georgia | 336,846 | 451,135
Illinois | 430,483 | 561,756
Indiana | 239,673 | 342,256
Iowa | 187,919 | 278,063
Kansas | 186,718 | 277,324
Kentucky | 215,486 | 310,537
Louisiana | 253,489 | 352,447
Maine | 145,677 | 229,734
Michigan | 374,285 | 493,318
Mississippi | 195,787 | 288,317
Missouri | 250,159 | 351,199
Montana | 141,279 | 225,078
Nevada | 167,928 | 255,694
New Hampshire | 147,833 | 231,870
New York | 604,333 | 754,403
North Carolina | 313,145 | 424,495
North Dakota | 135,800 | 218,133
Ohio | 392,013 | 515,946
Oklahoma | 214,467 | 309,872
South Dakota | 139,508 | 222,346
Tennessee | 264,990 | 366,900
Texas | 726,539 | 905,713
Vermont | 135,453 | 217,610
Washington | 259,434 | 363,345
West Virginia | 161,412 | 247,552
Wisconsin | 251,631 | 350,701
Wyoming | 132,763 | 214,523
Guam | 80,000 | 100,000
Northern Marianas | 80,000 | 100,000
Virgin Islands | 80,000 | 100,000
Federated States of Micronesia | 80,000 | NA

Electronic Access to This Document

You may view this document, as well as all other Department of Education documents published in the Federal Register, in text or portable document format (PDF) on the internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html.

Program Authority: 20 U.S.C. 1485.

Dated: June 19, 2002.
Robert H. Pasternack,
Assistant Secretary for Special Education and Rehabilitative Services.

[FR Doc. 02-16028 Filed 6-24-02; 8:45 am]

BILLING CODE 4000-01-P